DEPARTMENT OF ENERGY

Federal Energy Regulatory Commission

[Docket No. EG00-177-000, et al.]

Conectiv Mid-Merit, Inc., et al.; Electric Rate and Corporate Regulation Filings

July 13, 2000.

Take notice that the following filings have been made with the Commission:

1. Conectiv Mid-Merit, Inc.

[Docket No. EG00-177-000]

Take notice that on June 16, 2000, Conectiv Mid-Merit, Inc. (CMM) filed with the Federal Energy Regulatory Commission (Commission), an application for determination of exempt wholesale generator status pursuant to Part 365 of the Commission's regulations.

CMM is a subsidiary of Conectiv, which is a public utility holding company under the Public Utility Holding Company Act (PUHCA). Conectiv also owns Delmarva Power & Light Company (Delmarva) and Atlantic City Electric Company (ACE), each of which is operating public utilities under PUHCA and the Federal Power Act. Conectiv also owns Conectiv Energy Supply, Inc. (CESI), which is engaged in competitive wholesale and retail sales of electricity, among other activities.

CMM intends to own and operate eighteen (18) combustion turbine generation facilities each with a capacity of about 110 MV. The facilities do not currently exist but are to be constructed pursuant to a contract with a manufacturer. CMM represents that it will be exclusively in the business of owning and operating eligible facilities and selling electric energy at wholesale. CMM represents that no State Commission determinations are necessary with respect to these facilities to be constructed.

Comment date: August 3, 2000, in accordance with Standard Paragraph E at the end of this notice. The Commission will limit its consideration of comments to those that concern the adequacy or accuracy of the application.

2. Adirondack Hydro Development Corporation

[Docket No. EG00-221-000]

Take notice that on July 7, 2000, Adirondack Hydro Development Corporation (Adirondack) filed with the Federal Energy Regulatory Commission an application or determination of exempt wholesale generator status pursuant to Part 365 of the Commission's regulations.

Adirondack owns and operates a 0.525 MV hydroelectric facility located on the Otter Creek in the Town of Greig, in Lewis County, New York. Adirondak's business offices are located at 39 Hudson Falls Road in South Glens Falls, New York.

Comment date: August 3, 2000, in accordance with Standard Paragraph E at the end of this notice. The Commission will limit its consideration of comments to those that concern the adequacy or accuracy of the application.

3. Sissonville Limited Partnership

[Docket No. EG00-222-000]

Take notice that on July 7, 2000, Sissonville Limited Partnership (Sissonville) filed with the Federal Regulatory Commission an application for determination of exempt wholesale generator status pursuant to Part 365 of the Commission's regulations.

Sissonville is a limited partnership formed under the laws of the State of New York for the purpose of owning and operating a 2.3 MV hydroelectric facility located on the Raquette River in the Town of Potsdam, St. Lawrence County, New York. Sissonville's business offices are located at 39 Hudson Falls Road, in South Glens Falls, New York.

Comment date: August 3, 2000, in accordance with Standard Paragraph E at the end of this notice. The Commission will limit its consideration of comments to those that concern the adequacy or accuracy of the application.

4. NYSD Limited Partnership

[Docket No. EG00-223-000]

Take notice that on July 7, 2000, New York State Dam Limited Partnership (NYSD) filed with the Federal Energy Regulatory Commission an application for determination of exempt wholesale generator status pursuant to Part 365 of the Commission's regulations.

NYSD is a limited partnership formed under the laws of the State of New York for the purpose of owning and operating a 10.83 MW hydroelectric facility located on the Mohawk River near the Town of Waterford and City of Cohoes in Saratoga and Albany Counties. NYSD has an easement from the State of New York for purposes of construction and operation of the Facility. NYSD's business offices are located at 39 Hudson Falls Road, in South Glens Falls, New York.

Comment date: August 3, 2000, in accordance with Standard Paragraph E at the end of this notice. The Commission will limit its consideration of comments to those that concern the adequacy or accuracy of the application.

5. Warrensburg Hydro Power Limited Partnership

[Docket No. EG00-224-000]

Take notice that on July 7, 2000, Warrensburg Hydro Power Limited Partnership (Warrensburg) filed with the Federal Energy Regulatory Commission an application for determination of exempt wholesale generator status pursuant to Part 365 of the Commission's regulations.

Warrensburg is a limited partnership formed under the laws of the State of New York for the purpose of owning and operating a 2.835 MW hydroelectric facility located on the Schroon River in the Town of Warrensburg, in Warren County, New York. Warrensburg has a 40-year easement from the State of New York for purposes of the construction and operation of the Facility. Warrensburg's business offices are located at 39 Hudson Falls Road in South Glens Falls, New York.

Comment date: August 3, 2000, in accordance with Standard Paragraph E at the end of this notice. The Commission will limit its consideration of comments to those that concern the adequacy or accuracy of the application.

6. Newington Energy, L.L.C.

[Docket No. EG00-225-000]

Take notice that on July 10, 2000, Newington Energy, L.L.C. (NEL), a Delaware limited liability company with its principal place of business at 111 Broadway, New York, NY 10006, filed with the Federal Energy Regulatory Commission an application for determination of exempt wholesale generator status pursuant to Part 365 of the Commission's regulations.

NEL proposes to own and operate a nominally rated approximately 525 MW natural gas-fired, combined cycle power plant in the town of Newington, New Hampshire. The proposed power plant is expected to commence commercial operation in May, 2002. All capacity and energy from the plant will be sold exclusively at wholesale.

Comment date: August 3, 2000, in accordance with Standard Paragraph E at the end of this notice. The Commission will limit its consideration of comments to those that concern the adequacy or accuracy of the application.

7. New Century Services, Inc.

[Docket No. ER00-3095-000]

Take notice that on July 11, 2000, New Century Services, Inc., on behalf of Public Service Company of Colorado (PSCo) tendered for filing revisions to Exhibits B to its Interconnection and Transmission Service Agreement with Tri-State Generation and Transmission Association Inc. as contained in Public Service's Rate Schedule FERC No.24.

PSCo requests an effective date of June 16, 2000 for this filing.

Copies of the filing were served upon Tri-State, Colorado Public Utilities Commission, and the Colorado Office of Consumer Counsel.

Comment date: August 1, 2000, in accordance with Standard Paragraph E at the end of this notice.

8. Baconton Power LLC

[Docket No. ER00-3096-000]

Take notice that on July 10, 2000, Baconton Power LLC (Baconton) tendered for filing a long-term service agreement with Coral Power L.L.C. pursuant to Baconton Power LLC's market-based tariff, FERC Electric Tariff, Original Vol. No. 1.

Baconton is requesting an effective date of June 13, 2000 for the Tolling Agreement.

Comment date: July 31, 2000, in accordance with Paragraph E at the end of this notice.

9. Virginia Electric and Power Company

[Docket No. ER00-3097-000]

Take notice that on July 10, 2000, Virginia Electric and Power Company (Virginia Power) tendered for filing Assignment and Assumption Agreements entered into by and among PPL Electric Utilities Corporation (Assignor), and PPL EnergyPlus, LLC (Assignee) dated April 17, 2000. Under these assignments, the Assignor assigns to the Assignee and the Assignee assumes all of the Assignor's rights and obligations pertaining to the following Service Agreements with Virginia Power:

Service Agreement for Short-Term Market Based Rate Power Sales dated May 15, 1995 and accepted by Letter Order dated July 19, 1995 in Docket No. ER95-1214-000;

Service Agreement for Non-Firm Point-to-Point Transmission Service Power Sales dated April 17, 1997 and accepted by Letter Order dated June 30, 1997 in Docket No. ER97-3058-000;

Service Agreement for Firm Point-to-Point Transmission Service dated October 7, 1997 and accepted by Letter Order January 2, 1998 in Docket No. ER98-671-000;

The Company requests an effective date of the assignments of July 1, 2000.

Copies of this filing were served upon PPL Energy/Plus, LLC the Virginia State Corporation Commission and the North Carolina Utilities Commission.

Comment date: July 31, 2000, in accordance with Standard Paragraph E at the end of this notice.

10. PJM Interconnection, L.L.C.

[Docket No. ER00-3098-000]

Take notice that on July 10, 2000, PJM Interconnection, L.L.C. (PJM), tendered for filing an executed service agreement for firm point-to-point transmission service, an executed service agreement for non-firm point-to-point transmission service, and an executed service agreement for network integration transmission service under the PJM Open Access Transmission Tariff with Energy East Solutions, Inc. (Energy East).

Copies of this filing were served upon Energy East and the state commissions with the PJM control area.

Comment date: July 31, 2000, in accordance with Standard Paragraph E at the end of this notice.

11. PECO Energy Company

[Docket No. ER00-3099-000]

Take notice that on July 10, 2000, PECO Energy Company (PECO) filed under Section 205 of the Federal Power Act, 16 U.S.C. 792 et seq., an Agreement dated July 7, 2000 with Oglethorpe Power Corporation (OPC) under PECO's FERC Electric Tariff Original Volume No. 1 (Tariff).

PECO requests an effective date of July 7, 2000, for the Agreement.

PECO states that copies of this filing have been supplied to Oglethrope Power Corporation and to the Pennsylvania Public Utility Commission.

Comment date: July 31, 2000, in accordance with Standard Paragraph E at the end of this notice.

12. Hardee Power Partners Limited

[Docket No. ER00-3100-000]

Take notice that on July 10, 2000, Hardee Power Partners Limited (HPP) tendered for filing a service agreement with the City of Tallahassee, Florida (Tallahassee) under HPP's market-based sales tariff. HPP requests that the service agreement be made effective on June 11, 2000.

Copies of the filing have been served on Tallahassee and the Florida Public Service Commission.

Comment date: July 31, 2000, in accordance with Standard Paragraph E at the end of this notice.

13. The Empire District Electric Company

[Docket No. ER00-3101-000]

Take notice that on July 7, 2000, The Empire District Electric Company (Empire) tendered for filing a notice that it was adopting the Transmission Loading Relief procedures accepted by the Federal Energy Regulatory Commission in North American Electric Reliability Council, 91 FERC ¶ 61,122 (2000), and that its open access transmission tariff (OATT) should be considered so modified.

Copies of this filing have been served on all affected state commissions and on all customers taking service under Empire's OATT.

Comment date: July 28, 2000, in accordance with Standard Paragraph E at the end of this notice.

14. The New Power Company

[Docket No. ER00-3102-000]

Take notice that on July 10, 2000, The New Power Company submitted a Notice of Succession pursuant to 18 CFR 35.16 and 131.51 of the Commission's regulations. The New Power Company is succeeding to the Rate Schedule FERC No. 1, Market-Based Rate Schedule, and Supplement No. 1 to Rate Schedule FERC No. 1, Code of Conduct filed in Docket No. ER00-2535-000, effective June 22, 2000.

Comment date: July 31, 2000, in accordance with Standard Paragraph E at the end of this notice.

15. Horsehead Industries, Inc.

[Docket No. ER00-3103-000]

Take notice that on July 10, 2000, Horsehead Industries, Inc. (Horsehead) tendered for filing a Form of Service Agreement to its FERC Electric Tariff, Original Volume No. 1, and an unexecuted Service Agreement for service to NewEnergy, Inc. (NewEnergy) thereunder.

A copy of the filing was served upon NewEnergy.

Comment date: July 31, 2000, in accordance with Standard Paragraph E at the end of this notice.

16. Arizona Public Service Company

[Docket No. ER00-3104-000]

Take notice that on July 10, 2000, Arizona Public Service Company (APS) filed with the Federal Energy Regulatory Commission (Commission) a Notice of Cancellation of Service Schedule D in the Agreement between APS and Citizens Utilities Company (Citizens) in accordance with the Commission's Rules under 18 CFR 35.15.

A copy of this filing was served on the Arizona Corporation Commission.

Comment date: July 31, 2000, in accordance with Standard Paragraph E at the end of this notice.

17. NYSD Limited Partnership; Warrensburg Hydro Power Limited Partnership; Sissonville Limited Partnership; Adirondack Hydro Development Corporation

[Docket No. ER00-3109-000]

Take notice that on July 7, 2000, NYSD Limited Partnership, Warrensburg Hydro Power Limited Partnership, Sissonville Limited Partnership, and Adirondack Hydro Development Corporation (collectively, the Applicants) filed an application for acceptance of their long-term power purchase agreements with Niagara Mohawk Power Company (NIMO) to make wholesale sales of electric power at market-based rates, waiver of certain of the Commission's regulations and blanket approval to engage in certain transactions.

The Applicants state that copies of this filing are being mailed to NIMO and to the New York Public Service Commission.

Comment date: July 28, 2000, in accordance with Standard Paragraph E at the end of this notice.

18. Alliant Energy Corporate Services, Inc.

[Docket No. ER00-3111-000]

Take notice that on July 10, 2000, Alliant Energy Corporate Services, Inc. tendered for filing executed Service Agreements for short-term firm point-to-point transmission service and non-firm point-to-point transmission service, establishing the City of Ames as a point-to-point Transmission Customer under the terms of the Alliant Energy Corporate Services, Inc. transmission tariff.

Alliant Energy Corporate Services, Inc. requests an effective date of June 26, 2000, and accordingly, seeks waiver of the Commission's notice requirements.

A copy of this filing has been served upon the Illinois Commerce Commission, the Minnesota Public Utilities Commission, the Iowa Department of Commerce, and the Public Service Commission of Wisconsin.

Comment date: July 31, 2000, in accordance with Standard Paragraph E at the end of this notice.

19. ISO New England Inc.

[Docket No. OA97-237-011]

Take notice that on June 20, 2000, ISO New England Inc. filed its “Quarterly Report for Regulators,” as required by New England Power Pool Market Rules and Procedures 17, for the first two quarters. A privileged version, and a redacted public version were filed, together with a request for privileged treatment under 18 CFR 388.112.

Comment date: July 27, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-18468 Filed 7-20-00; 8:45 am]

BILLING CODE 6717-01-P